ENVIRONMENTAL PROTECTION AGENCY

[FRL-8524-3]

Notice of Open Meeting of the Environmental Financial Advisory Board (EFAB)

AGENCY: Environmental Protection Agency (EPA).

ACTION: Notice.

SUMMARY: The EPA's EFAB will hold an open meeting of the full board in Washington, DC on March 10-11, 2008. EFAB is an EPA advisory committee chartered under the Federal Advisory Committee Act (FACA) to provide advice and recommendations to EPA on creative approaches to funding environmental programs, projects, and activities.

The purpose of this meeting is to hear from informed speakers on environmental finance issues, proposed legislation, Agency priorities, and to discuss progress with work products under EFAB's current Strategic Action Agenda.

Environmental financing topics expected to be discussed include: Financial Assurance Mechanisms (Commercial Insurance & Cost Estimation), Environmental Management Systems, Public-Private Partnerships, Sustainable Watershed Financing, Innovative Financing Tools, and Leveraging the State Revolving Loan Funds.

This meeting is open to the public, however, seating is limited. All members of the public who plan to attend the meeting must register in advance, no later than Friday, February 29, 2008.

DATES: Full Board Meeting is scheduled for March 10, 2008 from 1 p.m.-5 p.m. and March 11, 2008 from 8:30 a.m.-5 p.m.

ADDRESSES: The American Institute of Architects, 1735 New York Ave., NW., Washington, DC 20006.

Registration and Information Contact

To register for this meeting or get further information, please contact Alecia Crichlow, EPA, at (202) 564-5188 or crichlow.alecia@epa.gov. For information on access or services for individuals with disabilities, please contact Alecia Crichlow. To request accommodations for a disability, contact Alecia Crichlow, preferably at least 10 days prior to the meeting, to give EPA as much time as possible to process your request.

Dated: January 23, 2008.
Terry Ouverson,
Acting Director, Office of Enterprise Technology & Innovation.

[FR Doc. E8-1955 Filed 2-1-08; 8:45 am]

BILLING CODE 6560-50-P